U.S.-CHINA ECONOMIC AND SECURITY REVIEW COMMISSION

Notice of Open Public Hearing

AGENCY: U.S.-China Economic and Security Review Commission.

ACTION: Notice of open public hearing—April 03, 2014, Washington, DC.

SUMMARY: Notice is hereby given of the following hearing of the U.S.-China Economic and Security Review Commission.

Name: Dennis C. Shea, Chairman of the U.S.-China Economic and Security Review Commission. The Commission is mandated by Congress to investigate, assess, and report to Congress annually on “the national security implications of the economic relationship between the United States and the People's Republic of China.” Pursuant to this mandate, the Commission will hold a public hearing in Washington, DC on April 03, 2014, “China's Healthcare Sector, Drug Safety, and the U.S.-China Trade in Medical Products.”

Background: This is the fourth public hearing the Commission will hold during its 2014 report cycle to collect input from academic, industry, and government experts on national security implications of the U.S. bilateral trade and economic relationship with China. This hearing will address China's recent healthcare reforms, market access for U.S. medical goods and services in China, and the safety of medical products imported from China into the United States. China is growing more affluent and urbanized, and is also facing new healthcare challenges. The Chinese government has launched ambitious reforms to expand coverage and improve care. The hearing will consider whether U.S. drug and medical device makers are able to compete fairly in China's market. It will also assess the U.S. Food and Drug Administration's ongoing efforts to regulate the drugs and drug ingredients imported from China into the United States. The hearing will be co-chaired by Chairman Dennis C. Shea and Vice Chairman William A. Reinsch. Any interested party may file a written statement by April 03, 2014, by mailing to the contact below. A portion of each panel will include a question and answer period between the Commissioners and the witnesses.

Location, Date And Time: Location TBA. Thursday, April 03, 2014, 8:30a.m.-3:30p.m. Eastern Time. A detailed agenda for the hearing will be posted to the Commission's Web site at www.uscc.gov. Also, please check our Web site for possible changes to the hearing schedule. Reservations are not required to attend the hearing.

FOR FURTHER INFORMATION CONTACT: Any member of the public seeking further information concerning the hearing should contact Reed Eckhold, 444 North Capitol Street NW., Suite 602, Washington DC 20001; phone: 202-624-1496, or via email at reckhold@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: March 25, 2014.
Michael Danis,
Executive Director, U.S.-China Economic and Security Review Commission.

[FR Doc. 2014-06980 Filed 3-27-14; 8:45 am]

BILLING CODE 1137-00-P